DEPARTMENT OF COMMERCE

National Telecommunications and Information Administration

[Docket No. 150312253-5253-01]

RIN 0660-XC018

Stakeholder Engagement on Cybersecurity in the Digital Ecosystem

AGENCY: National Telecommunications and Information Administration, U.S. Department of Commerce.

ACTION: Notice; Extension of comment period.

SUMMARY: The Department of Commerce Internet Policy Task Force (IPTF) announces that the closing deadline for submitting comments responsive to the May 18, 2015 request for public comments to identify substantive cybersecurity issues to be addressed by a multistakeholder process has been extended until 5:00 p.m. Eastern Daylight Time (EDT) on Wednesday, May 27, 2015.

DATES: Comments are due on or before 5 p.m. EDT on Wednesday, May 27, 2015.

ADDRESSES: Written comments may be submitted by email to securityRFC2015@ntia.doc.gov. Comments submitted by email should be machine-searchable and should not be copy-protected. Written comments also may be submitted by mail to the National Telecommunications and Information Administration, U.S. Department of Commerce, 1401 Constitution Avenue NW., Room 4725, Attn: Cybersecurity RFC 2015, Washington, DC 20230. Responders should include the name of the person or organization filing the comment, as well as a page number, on each page of their submissions. All comments received are a part of the public record and will generally be posted to http://www.ntia.doc.gov/category/internet-policy-task-force without change. All personal identifying information (e.g., name, address) voluntarily submitted by the commenter may be publicly accessible. Do not submit Confidential Business Information or otherwise sensitive or protected information. NTIA will also accept anonymous comments.

FOR FURTHER INFORMATION CONTACT: Allan Friedman, National Telecommunications and Information Administration, U.S. Department of Commerce, 1401 Constitution Avenue NW., Room 4725, Washington, DC 20230; Telephone: (202) 482-4281; Email: afriedman@ntia.doc.gov. Please direct media inquiries to NTIA's Office of Public Affairs: (202) 482-7002.

SUPPLEMENTARY INFORMATION: In 2011, the Department of Commerce published a Green Paper, Cybersecurity, Innovation, and the Internet Economy, identifying the challenges of securing the digital ecosystem, and the importance of a multistakeholder policy model.¹ Building off this approach, in March of 2015, the IPTF announced a new initiative to complement existing cybersecurity programs by focusing on risks that exist between multiple parts of the digital ecosystem.² Please see the prior Notice, Stakeholder Engagement on Cybersecurity in the Digital Ecosystem, for the original questions posed in the request for public comments to identify substantive cybersecurity issues to be addressed by a multistakeholder process.³ The request for public comments originally set a deadline for submission of comments on May 18, 2015. With this notice, NTIA announces that the closing deadline for submission of comments has been extended until 5:00 p.m. EDT on May 27, 2015.

¹ U.S. Department of Commerce, Internet Policy Task Force, Cybersecurity, Innovation, and the Internet Economy (June 2011) (“Green Paper”), available at: http://www.nist.gov/itl/upload/Cybersecurity_Green-Paper_FinalVersion.pdf.

² See 80 FR 14360 (March 19, 2015) available at: http://www.ntia.doc.gov/files/ntia/publications/cybersecurity_rfc_03192015.pdf.

³ Id.

Dated: May 8, 2015.
Kathy D. Smith,
Chief Counsel.

[FR Doc. 2015-11540 Filed 5-12-15; 8:45 am]

BILLING CODE 3510-60-P